DEPARTMENT OF HEALTH AND HUMAN SERVICES

National Institutes of Health

Synergy in Science: Innovations in Autoimmune Disease Research and Care

AGENCY: National Institutes of Health, HHS.

ACTION: Notice.

SUMMARY: This symposium is sponsored by the National Institutes of Health (NIH), Office of Research on Women's Health (ORWH), and the title of this year's symposium is “Synergy in Science: Innovations in Autoimmune Disease Research and Care.” The symposium will discuss the convergence of cutting-edge insights and collaborative efforts in the realm of autoimmune diseases.

DATES: The meeting will be held on May 15, 2024, from 1 to 5 p.m.

ADDRESSES: The meeting will be virtual. Registration is available at https://nih.zoomgov.com/webinar/register/WN_jYi3sBFvToeHZJcfytw6GA#/registration. The meeting is viewable on NIH Videocast at https://videocast.nih.gov/watch=54417; no registration is required.

FOR FURTHER INFORMATION CONTACT: For information concerning this meeting, see the ORWH website, https://orwh.od.nih.gov/about/newsroom/events/8th-annual-vivian-w-pinn-symposium, or contact Dr. Vicki Shanmugam, Director, NIH Office of Autoimmune Disease Research in the Office of Research on Women's Health, 6707 Democracy Boulevard, Suite 400, Bethesda, MD 20817, telephone: 301-402-4179; email: vicki.shanmugam@nih.gov.

SUPPLEMENTARY INFORMATION: This Notice is in accordance with 42 U.S.C. 287d, of the Public Health Service Act, as amended. The 8th Annual Vivian W. Pinn Symposium honors the first full-time Director of ORWH, Dr. Vivian Pinn, and is held during National Women's Health Week. This event serves as a critical forum for experts across sectors to communicate and collaborate for the advancement of women's health.

Providing the keynote address, “Understanding the Immunome: Past, Present, and Future,” is Jane Buckner, M.D., President of Benaroya Research Institute.

The objectives of the symposium are:

• Drivers of Autoimmunity: Understand the state of the science on sex-differences in autoimmune diseases, and what the future may hold for interventions.

• NIH Research Frontiers: Explore innovations arising from NIH's intramural research programs, driving progress in autoimmune care through rigorous scientific inquiry and technological breakthroughs.

• Advocacy Accelerating Treatments: Examine the synergy between patient advocacy and scientific progress, highlighting how collaborative efforts expedite the development of novel treatments for rare autoimmune diseases.

• Research at the Bedside: Unravel the complexities of autoimmune diseases across the lifespan through patient-centric bedside research insights.

Interested individuals can register at: https://nih.zoomgov.com/webinar/register/WN_jYi3sBFvToeHZJcfytw6GA#/registration.

More information about the speakers and agenda can be found at https://orwh.od.nih.gov/about/newsroom/events/8th-annual-vivian-w-pinn-symposium.

This event is free.

Dated: April 24, 2024.
Lawrence A. Tabak,
Principal Deputy Director, National Institutes of Health.

[FR Doc. 2024-09345 Filed 4-30-24; 8:45 am]

BILLING CODE 4140-01-P